DEPARTMENT OF COMMERCE

International Trade Administration

[A-570-601]

Tapered Roller Bearings and Parts Thereof, Finished or Unfinished, From the People's Republic of China: Notice of Second Extension of Time Limit for the Final Results of the Antidumping Duty Administrative Review

AGENCY: Import Administration, International Trade Administration, Department of Commerce.

DATES: Effective Date: December 7, 2011.

FOR FURTHER INFORMATION CONTACT: Demitri Kalogeropoulos or Frances Veith, AD/CVD Operations, Office 8, Import Administration, International Trade Administration, U.S. Department of Commerce, 14th Street and Constitution Avenue NW., Washington, DC 20230; telephone: (202) 482-2623 or (202) 482-4295, respectively.

SUPPLEMENTARY INFORMATION:

Background

On July 28, 2010, the Department of Commerce (“Department”) published the initiation of the administrative review of the antidumping duty order on tapered roller bearings and parts thereof, finished or unfinished, (“TRBs”) from the People's Republic of China (“PRC”). See Initiation of Antidumping and Countervailing Duty Administrative Reviews and Requests for Revocation in Part, 75 FR 44224 (July 28, 2010). On July 13, 2011, the Department published the preliminary results of the review. See Tapered Roller Bearings and Parts Thereof, Finished or Unfinished, From the People's Republic of China: Preliminary Results of the 2009-2010 Administrative Review of the Antidumping Duty Order and Intent To Rescind Administrative Review, in Part, 76 FR 41207 (July 13, 2011). On November 8, 2011, the Department partially extended the deadline for the final results by 30 days. See Tapered Roller Bearings and Parts Thereof, Finished or Unfinished, From the People's Republic of China: Extension of Time Limit for the Final Results of the Antidumping Duty Administrative Review, 76 FR 69241 (November 8, 2011). The final results are currently due no later than December 12, 2011. The 2009-2010 administrative review covers the period June 1, 2009, through May 31, 2010.

Extension of Time Limit for Final Results of Review

Pursuant to section 751(a)(3)(A) of the Tariff Act of 1930, as amended (“Act”), the Department shall make a final determination in an administrative review of an antidumping duty order within 120 days after the date on which the preliminary results are published. The Act further provides, however, that the Department may extend that 120-day period to 180 days if it determines it is not practicable to complete the review within the foregoing time. On November 8, 2011, the Department extended the deadline of the final results by 30 days. Thus, the Department may extend the deadline of the final results by an additional 30 days.

The Department finds that it is not practicable to complete the final results of the 2009-2010 administrative review of TRBs from the PRC within the current deadline due to issues requiring additional analysis, including consumption allocation factors and a successor-in-interest determination. Therefore, given the complex issues in this case, in accordance with section 751(a)(3)(A) of the Act, the Department is fully extending the time period for completion of the final results of this review to January 9, 2012.

This notice is published in accordance with sections 751(a)(3)(A) and 777(i) of the Act.

Dated: December 1, 2011.
Christian Marsh,
Deputy Assistant Secretary for Antidumping and Countervailing Duty Operations.

[FR Doc. 2011-31434 Filed 12-6-11; 8:45 am]

BILLING CODE 3510-DS-P